DEPARTMENT OF COMMERCE

National Oceanic and Atmospheric Administration

[Docket Number: 0811191487-81488-01]

RIN: 0648-XL97

National Weather Service (NWS); NOAA Science Advisory Board's Environmental Information Services Working Group

AGENCY: National Weather Service (NWS), National Oceanic and Atmospheric Administration (NOAA), Department of Commerce (DOC).

ACTION: Notice of solicitation for members of the NOAA Science Advisory Board's Environmental Information Services Working Group.

SUMMARY: The Under Secretary of Commerce for Oceans and Atmosphere requested the NOAA Science Advisory Board (SAB) to obtain input from a standing working group, the Environmental Information Services Working Group (EISWG), as a mechanism to address interactions between NOAA and its Partners. The initial focus of the EISWG is to advise on issues raised and enhance effective collaboration between the National Weather Service and its partners. The composition of the Working Group will reflect those interests.

The EISWG will be composed of 15-18 members, who, by reason of knowledge, experience or training, are especially qualified to represent users of NOAA environmental information services, including, but not limited to, the commercial weather industry (both value-added and end-users), academia, and the media. Membership may also include representatives of federal, state and regional government agencies and non-governmental agencies. NOAA is requesting nominations for membership in the SAB EISWG.

DATES: Nominations must be received by January 23, 2009.

ADDRESSES: Nominations should be submitted electronically to (noaa.sab.eiswg@noaa.gov).

FOR FURTHER INFORMATION CONTACT: Jennifer Sprague, 301-713-0217.

SUPPLEMENTARY INFORMATION: The complete Terms of Reference of this working group can be found on the NOAA Science Advisory Board Web site: http://www.sab.noaa.gov/Working_Groups/standing/index.html.

At this time, NOAA is soliciting for up to eighteen members qualified to represent users of NOAA environmental information services, including, but not limited to, the commercial weather industry (both value-added and end-users), academia, and the media. Membership may also include representatives of federal, state and regional government agencies and non-governmental agencies. Members should have a credible science background, and an operational knowledge of federal agencies and interactions with state and local partners. The Working Group will convene 2-3 times over a year following the initial meeting. It will not advise NOAA directly, but, instead, will advise the SAB, which will deliberate on the Working Group's input before advising NOAA.

The intent is to select the membership of the group from the suggested candidates; however, the SAB retains the prerogative to propose members to the working group who were not nominated if it deems this necessary to achieve the desired balance. Once selected, the members' names will be posted at http://www.sab.noaa.gov.

The NOAA SAB has advised that the establishment of EISWG should be an interim solution. One year after the first meeting of the EISWG, the NOAA SAB will evaluate the effectiveness of this Working Group as a mechanism for obtaining advice on partnership issues relating to environmental information services. Following that evaluation, the SAB will recommend other steps as deemed necessary.

Nominations: Anyone is eligible to nominate and self-nominations will be accepted. Nominations should provide: (1) The nominee's full name, title, institutional affiliation, and contact information; (2) the nominee's area(s) of expertise; and (3) a concise Curriculum Vitae (CV) or resume that covers education, experience, relevant publications and summarizes how this expertise addresses the EISWG terms of reference.

Dated: November 20, 2008.
David Murray,
Director, Management and Organization Division, Office of the Chief Financial Officer, National Weather Service, National Oceanic and Atmospheric Administration.

[FR Doc. E8-27973 Filed 11-24-08; 8:45 am]

BILLING CODE 3510-22-P